DEPARTMENT OF HEALTH AND HUMAN SERVICES

National Institutes of Health

National Human Genome Research Institute; Notice of Meetings

Pursuant to section 10(d) of the Federal Advisory Committee Act, as amended, notice is hereby given of meetings of the National Advisory Council for Human Genome Research.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council for Human Genome Research.

Date: February 11-12, 2019.

Closed: February 11, 2019, 8:00 a.m. to 10:00 a.m.

Agenda: To review and evaluate grant applications and/or proposals.

Place: National Institutes of Health, 6700B Rockledge Drive, Suite 1100, Bethesda, MD 20817.

Open: February 11, 2019, 10:00 a.m. to 4:00 p.m.

Agenda: To discuss matters of program relevance.

Place: National Institutes of Health, 6700B Rockledge Drive, Suite 1100, Bethesda, MD 20817.

Closed: February 11, 2019, 4:00 p.m. to 6:00 p.m.

Agenda: To review and evaluate grant applications and/or proposals.

Place: National Institutes of Health, 6700B Rockledge Drive, Suite 1100, Bethesda, MD 20817.

Closed: February 12, 2019, 8:00 a.m. to Adjournment.

Agenda: To review and evaluate grant applications and/or proposals.

Place: National Institutes of Health, 6700B Rockledge Drive, Suite 1100, Bethesda, MD 20817.

Contact Person: Rudy O. Pozzatti, Ph.D., Scientific Review Officer Scientific Review Branch, National Human Genome Research Institute, 5635 Fishers Lane, Suite 4076, MSC 9306, Rockville, MD 20852, (301) 402-0838, pozzattr@mail.nih.gov.

Name of Committee: National Advisory Council for Human Genome Research.

Date: May 20-21, 2019.

Closed: May 20, 2019, 8:00 a.m. to 10:00 p.m.

Agenda: To review and evaluate grant applications and/or proposals.

Place: National Institutes of Health, 6700B Rockledge Drive, Suite 1100, Bethesda, MD 20817.

Open: May 20, 2019, 10:00 a.m. to 4:00 p.m.

Agenda: To discuss matters of program relevance.

Place: National Institutes of Health, 6700B Rockledge Drive, Suite 1100, Bethesda, MD 20817.

Closed: May 20, 2019, 4:00 p.m. to 6:00 p.m.

Agenda: To review and evaluate grant applications and/or proposals.

Place: National Institutes of Health, 6700B Rockledge Drive, Suite 1100, Bethesda, MD 20817.

Closed: May 21, 2019, 8:30 a.m. to Adjournment.

Agenda: To review and evaluate grant applications and/or proposals.

Place: National Institutes of Health, 6700B Rockledge Drive, Suite 1100, Bethesda, MD 20817.

Contact Person: Rudy O. Pozzatti, Ph.D., Scientific Review Officer, Scientific Review Branch, National Human Genome Research Institute, 5635 Fishers Lane, Suite 4076, MSC 9306, Rockville, MD 20852, (301) 402-0838, pozzattr@mail.nih.gov.

Name of Committee: National Advisory Council for Human Genome Research.

Date: September 16-17, 2019.

Closed: September 16, 2019, 8:00 a.m. to 10:00 a.m.

Agenda: To review and evaluate grant applications and/or proposals.

Place: National Institutes of Health, 6700B Rockledge Drive, Suite 1100, Bethesda, MD 20817.

Open: September 16, 2019, 10:00 a.m. to 4:00 p.m.

Agenda: To discuss matters of program relevance.

Place: National Institutes of Health, 6700B Rockledge Drive, Suite 1100, Bethesda, MD 20817.

Closed: September 16, 2019, 4:00 p.m. to 6:00 p.m.

Agenda: To review and evaluate grant applications and/or proposals.

Place: National Institutes of Health, 6700B Rockledge Drive, Suite 1100, Bethesda, MD 20817.

Closed: September 17, 2019, 8:30 a.m. to Adjournment.

Agenda: To review and evaluate grant applications and/or proposals.

Place: National Institutes of Health, 6700B Rockledge Drive, Suite 1100, Bethesda, MD 20817.

Contact Person: Rudy O. Pozzatti, Ph.D., Scientific Review Officer Scientific Review Branch, National Human Genome Research Institute, 5635 Fishers Lane, Suite 4076, MSC 9306, Rockville, MD 20852, (301) 402-0838, pozzattr@mail.nih.gov.

Information is also available on the Institute's/Center's home page: http://www.genome.gov/11509849, where an agenda and any additional information for the meeting will be posted when available.

(Catalogue of Federal Domestic Assistance Program Nos. 93.172, Human Genome Research, National Institutes of Health, HHS)

Dated: December 21, 2018.
Sylvia L. Neal,
Program Analyst,Office of Federal Advisory Committee Policy.

[FR Doc. 2018-28330 Filed 12-27-18; 8:45 am]

BILLING CODE 4140-01-P